DEPARTMENT OF THE INTERIOR

National Park Service

Notice of Availability of a Final Supplemental Environmental Impact Statement for Construction of the Natchez Trace Parkway (Section 3P13), Ridgeland, MS

AGENCY: National Park Service, Interior.

ACTION: Notice of availability of a final supplemental environmental impact statement for construction of the Natchez Trace Parkway (Section 3P13), Ridgeland, Mississippi.

SUMMARY: In accordance with section 102(2)(c) of the National Environmental Policy Act of 1969 (Public Law 91-190, as amended), this notice announces the availability of the Final Supplemental Environmental Impact Statement (FSEIS) for the construction of the segment of the Natchez Trace Parkway (Section 3P13) through Ridgeland, Mississippi. The FSEIS evaluates the environmental consequences associated with the proposed action and the other alternatives on local traffic and transportation routes, cultural resources, wetlands, visual quality, visitor experience, economics and land use, and impact on nearby residents, among other topics.

DATES: The Final SEIS will be on public review for 30 days following the date of the Environmental Protection Agency's (EPA) publication of their notice of receipt of the Final Supplemental Environmental Impact Statement in the Federal Register. Upon completion of the 30-day review period, a Record of Decision will be prepared and signed by the Regional Director of the Southeast Region of the National Park Service and will be published at a later date.

ADDRESSES: Public reading copies of the Natchez Trace Parkway's (Section 3P13) Final Supplemental Environmental Impact Statement will be available for public review at the following locations:

1. Natchez Trace Parkway Headquarters, 2680 Natchez Trace Parkway, Tupelo, Mississippi 38804, (662) 680-4004.

2. Jackson/Hinds Library System, Eudora Welty Library, 300 North State Street, Jackson, Mississippi 39201, (601) 968-5809

(This is the headquarters or main library in Jackson)

FOR FURTHER INFORMATION CONTACT: For copies of the FSEIS or additional information, please contact: Superintendent Wendell A. Simpson, Natchez Trace Parkway, 2680 Natchez Trace Parkway, Tupelo, Mississippi 38804, Telephone: (662) 680-4004.

SUPPLEMENTARY INFORMATION: The Natchez Trace Parkway was established in 1938 to commemorate the Old Natchez Trace, a primitive network of trails that stretched from Natchez, Mississippi, to Nashville, Tennessee. Designed to follow the alignment of the historic trace as closely as the requirements of modern road construction allows, upon completion the Natchez Trace Parkway will extend diagonally from Natchez to Nashville, a distance of approximately 444 miles.

The completion of a continuous parkway motor road between Natchez and Nashville by the National Park Service has been underway for more than 60 years. A decision on and construction of this short segment of the parkway motor road, combined with other completed, in-progress, and planned NPS construction projects between I-20 and I-55 would permit the opening of the parkway motor road to through visitor vehicular use without the need for a detour through the greater metropolitan area of Jackson, Mississippi. The parkway's 1987 General Management Plan ranks the completion of the parkway motor road as one of its prominent management objectives.

Those listed on the Natchez Trace Parkway's database who have commented on the Draft SEIS or shown interest in the proposed project will receive notification of the 30-day review period along with a copy of the FSEIS personally by letter from the Parkway Superintendent.

Our practice is to make comments, including names and home addresses of respondents, available for public review during business hours. If you wish for us to withhold your name and/or address, you must state this prominently at the beginning of your comment. However, we will not consider anonymous comments. We will make all submissions from organizations or businesses, and from individuals identifying themselves as representatives or officials or organizations or businesses, available for public inspection in their entirety.

Dated: February 13, 2001.
Patricia A. Hooks,
Acting Regional Director, Southeast Region.

[FR Doc. 01-16542 Filed 6-29-01; 8:45 am]

BILLING CODE 4310-70-M